FEDERAL ELECTION COMMISSION

Sunshine Act Meeting

AGENCY: Federal Election Commission

PREVIOUSLY ANNOUNCED DATE AND TIME: Thursday, October 2, 2003, 10 a.m., meeting open to the public. This meeting was cancelled.

DATE AND TIME: Wednesday, October 8, 2003 at 10 a.m.

PLACE: 999 E Street, NW., Washington, DC.

STATUS: This meeting will be closed to the public.

ITEMS TO BE DISCUSSED: Compliance matters pursuant to 2 U.S.C. 437g. Audits conducted pursuant to 2 U.S.C. 437g, 438(b), and Title 26, U.S.C. Matters concerning participation in civil actions or proceedings or arbitration. Internal personnel rules and procedures or matters affecting a particular employee.

DATE AND TIME: Thursday, October 9, 2003 at 10 a.m.

PLACE: 999 E Street, NW., Washington, DC. (Ninth Floor).

STATUS: This meeting will be open to the public.

ITEMS TO BE DISCUSSED: Correction and Approval of Minutes.

Draft Advisory Opinion 2003-23: Women Engaged in Leadership, Education, and Action in Democracy (“WE LEAD”) by counsel, Joseph E. Sandler and Neil P. Reiff.

Draft Advisory Opinion 2003-24: National Center for Tobacco Free Kids (“NCTFK”) by counsel, Michael B. Trister.

Routine Administrative Matters.

FOR FURTHER INFORMATION CONTACT: Mr. Ron Harris, Press Officer, Telephone: (202) 694-1220.

Mary W. Dove,
Secretary of the Commission.

[FR Doc. 03-25247 Filed 10-1-03; 11:16 am]

BILLING CODE 6715-01-M